DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Black Lung Clinics Program Performance Measures OMB No. 0915-0292—Extension.

Abstract: The Health Resources and Services Administration, Office of Rural Health Policy (HRSA/ORHP) conducts an annual data collection of user information for the Black Lung Clinic Program, which has been ongoing with OMB approval since 2004. The purpose of the Black Lung Clinic Program is to improve the health status of coal workers by providing services to minimize the effects of respiratory and pulmonary impairments of coal miners, including treatment required in the management of problems associated with black lung disease which improves the miners' quality of life and reduces economic costs associated with morbidity and mortality arising from pulmonary diseases. Collecting this data will provide HRSA information on how well each grantee is meeting the needs of active and retired miners in their communities.

Need and Proposed Use of the Information: Data from the annual report will provide quantitative information about the clinics, specifically: (a) The characteristics of the patients they serve (gender, age, disability level, occupation type); (b) the characteristics of services provided (medical encounters, non-medical encounters, benefits counseling, or outreach); and (c) the number of patients served. This assessment will enable HRSA to provide data required by Congress under the Government Performance and Results Act of 1993. It will also ensure that funds are effectively used to provide services that meet the target population needs. HRSA/ORHP's intent in using the current measures until the next competitive grant cycle (July 2014) is to allow grantees to make adjustments to their data collection/data reporting systems, as well as revise the general program requirements to more closely align with the statute.

Summary of Prior Comments and Agency Response

A 60-day Federal Register Notice was published in the Federal Register on June 12, 2013, Vol. 78, No. 113; p. 35287. There were two public comments. One of the grantees recommended HRSA/ORHP eliminate the process measures and focus on outcome measures. HRSA is currently working on revising the measures for the entire program, and, as the grantee suggested, is attempting to focus the measures more on outcomes. As noted above, HRSA/ORHP's intent in using the current measures until the next competitive grant cycle (July 2014) is to allow grantees to make adjustments to their data collection/data reporting systems, as well as revise the general program requirements to more closely align with the statute. There will also be another period for the general public to comment on the new measures. Another grantee requested a copy of the measures, seeking clarification on what was being asked. Clarification was provided that none of the measures will be changed this year. The measures have been the same for the last several years.

Likely Respondents: Black Lung Clinics Program Grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Name of instrument | Black Lung Clinics Program Measures | 1 | 15 | 10.0 | 150.00
Total |  | 1 | 15 | 10.0 | 150.00

Dated: August 6, 2013.
Bahar Niakan,
Director, Division of Policy and Information Coordination.

[FR Doc. 2013-19569 Filed 8-12-13; 8:45 am]

BILLING CODE 4165-15-P